DEPARTMENT OF ENERGY

Secretary of Energy Advisory Board; Notice of Open Meeting

SUMMARY: This notice announces an open meeting of the Secretary of Energy Advisory Board's Laboratory Operations Board (LOB). The Federal Advisory Committee Act (Public Law 92-463, 86 Stat. 770), requires that agencies publish these notices in the Federal Register to allow for public participation.

NAME: Secretary of Energy Advisory Board—Laboratory Operations Board.

DATES: Thursday, July 13, 2000, 8:30 am-3:15 pm, eastern daylight time.

ADDRESSES: Renaissance Washington D.C. Hotel, East Salon Ballroom, 999 9th Street, NW, Washington, DC, 20001

FOR FURTHER INFORMATION CONTACT: Richard Burrow, Acting Executive Director, or Laurie Keaton, LOB Staff Director, Office of Secretary of Energy Advisory Board (AB-1), US Department of Energy, 1000 Independence Avenue, SW., Washington, DC 20585, (202) 586-7162 or (202) 586-6279 (fax).

SUPPLEMENTARY INFORMATION: The purpose of the Laboratory Operations Board is to provide independent external advice to the Secretary of Energy Advisory Board regarding the strategic direction of the Department's laboratories, the coordination of budget and policy issues affecting laboratory operations, and the reduction of unnecessary and counterproductive management burdens on the laboratories. The Laboratory Operations Board's goal is to facilitate the productive and cost-effective utilization of the Department's laboratory system and the application of best business practices.

Tentative Agenda

Thursday, July 13, 2000

8:30 a.m.-8:45 a.m. Co-Chairs Opening Remarks

8:45 a.m.-9:30 a.m. Strategic Information Management Study to Modernize the DOE's Corporate R&D Portfolio Management Environment

9:30 a.m.-10:30 a.m. Management Initiatives at DOE Headquarters

10:30 a.m.-10:45 a.m. Break

10:45 a.m.-12:00 p.m. National Nuclear Security Administration Laboratories—Work Relationships

12:00 p.m.-1:00 p.m. Lunch

1:00 p.m.-2:00 p.m. Lab Stories: Performance-Based Management

2:00 p.m.-2:30 p.m. Laboratory Infrastructure Modernization

2:30 p.m.-2:45 LOB Work Plan

2:45 p.m.-3:00 p.m. Revisions to LOB Terms of Reference

3:00 p.m.-3:15 p.m. Public Comment Period

3:15 p.m. Adjourn

This tentative agenda is subject to change. The final agenda will be available at the meeting.

Public Participation

In keeping with procedures, members of the public are welcome to monitor the business of the Laboratory Operations Board and to submit written comments or comment during the scheduled public comment period. The meeting will be conducted in a fashion that will, in the Co-Chairs, judgment, facilitate the orderly conduct of business. During its open meeting, the Laboratory Operations Board welcomes public comment. Members of the public will be heard in the order in which they sign up at the beginning of the meeting. The Board will make every effort to hear the views of all interested parties. You may submit written comments to Richard Burrow, Acting Executive Director, Secretary of Energy Advisory Board, AB-1, US Department of Energy, 1000 Independence Avenue, SW., Washington, DC 20585. This notice is being published less than 15 days before the date of the meeting due to the late resolution of programmatic issues.

Minutes

A copy of the minutes and a transcript of the meeting will be made available for public review and copying approximately 30 days following the meeting at the Freedom of Information Public Reading Room, 1E-190 Forrestal Building, 1000 Independence Avenue, SW., Washington, DC, between 9:00 am and 4:00 pm, Monday through Friday except Federal holidays. Further information on the Laboratory Operations Board is available at the Secretary of Energy Advisory Board's web site, located at http://­www.hr.doe.gov/seab.

Issued at Washington, D.C., on June 29, 2000.
Rachel M. Samuel,
Deputy Advisory Committee Management Officer.

[FR Doc. 00-17117 Filed 7-5-00; 8:45 am]

BILLING CODE 6450-01-P